DEPARTMENT OF ENERGY

Federal Energy Regulatory Commission

[Docket No. RP00-555-001]

Dominion Transmission, Inc.; Notice of Tariff Filing

October 17, 2000.

Take notice that on October 6, 2000, Dominion Transmission, Inc. (DTI) (formerly CNG Transmission Corporation) tendered for filing revised sheets to resubmit certain tariff sheets and to correct errors appearing on certain tariff sheets filed on September 22, 2000, in this proceeding. The purpose of the original filing was to reflect DTI's corporate name change which became effective April 11, 2000.

DTI states that copies of the filing have been served on DTI's customers and interested state commissions.

Any person desiring to protest said filing should file a protest with the Federal Energy Regulatory Commission, 888 First Street, N.E., Washington, DC 20426, in accordance with Section 385.211 of the Commission's Rules and Regulations. All such protests must be filed in accordance with Section 154.210 of the Commission's Regulations. Protests will be considered by the Commission in determining the appropriate action to be taken, but will not serve to make protestants parties to the proceedings. Copies of this filing are on file with the Commission and are available for public inspection in the Public Reference Room. This filing must be viewed on the web at http://www.ferc.fed.us/online/rims.htm (call 202-208-2222 for assistance).

David P. Boergers,
Secretary.

[FR Doc. 00-27096 Filed 10-20-00; 8:45 am]

BILLING CODE 6717-01-M